DEPARTMENT OF THE INTERIOR

Bureau of Land Management

[LLMT922200-11-L13100000-FI0000-P; NDM 94247, NDM 94249, and NDM 94263]

Notice of Proposed Reinstatement of Terminated Oil and Gas Leases NDM 94247, NDM 94249, and NDM 94263

AGENCY: Bureau of Land Management, Interior.

ACTION: Notice.

SUMMARY: Per 30 U.S.C. 188(d), Pride Energy Company timely filed a petition for reinstatement of competitive oil and gas leases NDM 94247, NDM 94249, and NDM 94263, Billings County, ND. The lessee paid the required rental accruing from the date of termination.

No leases were issued that affect these lands. The lessee agrees to new lease terms for rentals and royalties, $10 per acre and 16⅔ percent respectively. The lessee paid the $500 administration fee for the reinstatement of the lease and $163 cost for publishing this Notice.

The lessee met the requirements for reinstatement of the lease per Sec. 31 (d) and (e) of the Mineral Leasing Act of 1920 (30 U.S.C. 188). We are proposing to reinstate the lease, effective the date of termination subject to:

• The original terms and conditions of the lease;

• The increased rental of $10 per acre; and

• The increased royalty of 16⅔ percent.

FOR FURTHER INFORMATION CONTACT: Teri Bakken, Chief, Fluids Adjudication Section, Bureau of Land Management Montana State Office, 5001 Southgate Drive, Billings, Montana 59101-4669, 406-896-5091, Teri_Bakken@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

Teri Bakken,
Chief, Fluids Adjudication Section.

[FR Doc. 2011-21568 Filed 8-22-11; 8:45 am]

BILLING CODE 4310-DN-P